COURT SERVICES AND OFFENDER SUPERVISION AGENCY FOR THE DISTRICT OF COLUMBIA

Agency Information Collection Activities: Proposed Collection; Submission to OMB for Review and Approval for Collection of Qualitative Feedback on Agency Service Delivery; Public Comment Request

AGENCY: Pretrial Services Agency for the District of Columbia (PSA), CSOSA.

ACTION: Notice and request for comments.

SUMMARY: This notice announces the intention of the Pretrial Services Agency for the District of Columbia, an independent entity within the Court Services and Offender Supervision Agency (CSOSA) to request that the Office of Management and Budget (OMB) approve the proposed information collection project: “Pretrial Services Agency for the District of Columbia 2013 Judicial Survey.” In accordance with the Paperwork Reduction Act, 44 U.S.C. 3501-3521, this notice announces PSA's intent to submit this collection to OMB for approval. PSA invites the public to comment on this proposed information collection.

DATES: Consideration will be given to all comments received by June 24, 2013.

ADDRESSES: You may submit written comments, identified by “Collection of Qualitative Feedback on Agency Service Delivery” to: Rorey Smith, Deputy General Counsel and Chief Privacy Officer, Office of General Counsel, Court Services and Offender Supervision Agency, 633 Indiana Avenue NW., Room 1380, Washington, DC 20004 or to Rorey.Smith@csosa.gov.

Comments submitted in response to this notice may be made available to the public. For this reason, please do not include in your comments information of a confidential nature, such as sensitive personal information or proprietary information. If you send an email comment, your email address will be automatically captured and included as part of the comment that is placed in the public docket and may be made available on the Internet. Please note that responses to this public comment request containing any routine notice about the confidentiality of the communication will be treated as public comments that may be made available to the public notwithstanding the inclusion of the routine notice.

FOR FURTHER INFORMATION CONTACT: Rorey Smith, Deputy General Counsel and Chief Privacy Officer, Office of General Counsel, Court Services and Offender Supervision Agency, 633 Indiana Avenue NW., Room 1890, Washington, DC 20004, (202) 220-5797 or to Rorey.Smith@csosa.gov. For content support: Diane Bradley, Assistant General Counsel, Office of General Counsel, Court Services and Offender Supervision Agency, 633 Indiana Avenue NW., Room 1375, Washington, DC 20004, (202) 220-5364 or to Diane.Bradley@csosa.gov.

SUPPLEMENTARY INFORMATION:

Title: Pretrial Services Agency for the District of Columbia 2013 Judicial Survey.

Abstract: Under the PRA (44 U.S.C. 3501-3520), federal agencies must obtain approval from the Office of Management and Budget (OMB) for each collection of information they collect or sponsor. Section 3506(c)(2)(A) of the PRA (944 U.S.C. 3506(c)(2)(A)) requires federal agencies to provide a 60-day notice in the Federal Register concerning each proposed collection of information, including each proposed extension of an existing collection of information, before submitting the collection of information to OMB for approval. To comply with this requirement, PSA is publishing notice of the proposed collection of information set forth in this document.

The proposed information collection activity provides a means to garner qualitative customer and stakeholder feedback in an efficient, timely manner, in accordance with the Administration's commitment to improving service delivery. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

The judicial officers at the District of Columbia Superior and District Courts are one of PSA's critical customers. The Agency's mission statement notes that “assistance to the courts” is critical to promoting pretrial justice and community safety. The proposed survey will assess judicial satisfaction with PSA's responsiveness, staff professionalism, the quality and benefit of PSA reports, PSA's supervision of higher risk defendants (including those with mental health and substance dependence issues), and the provision of treatment services. The judicial survey will represent the only qualitative or quantitative measure of this important metric. PSA will use the collected information to support several organizational improvements including: Enhancements to PSA's supervision of medium to higher-risk pretrial defendants; improve communications with the Court regarding defendant compliance and noncompliance with supervision requirements; provide better performance ratings of Senior Executive Services staff; and creation of a qualitative performance measure to gauge overall judicial satisfaction under PSA's “partnerships” strategic objective. This type of collection for qualitative information will be used for quantitative information collections that are designed to yield reliable actionable results, such as monitoring trends over time or documenting program performance.

As a general matter, information collections will not result in any new system of records containing privacy information and will not ask questions of a sensitive nature, such as sexual behavior and attitudes, religious beliefs, and other matters that are commonly considered private.

This evaluation study addresses PSA's need for a report to inform strategic planning for dissemination and program activities to targeted 60 DC Superior Court and District Court judicial officers as survey participants—the universe of judicial officers hearing criminal matters in both courts and those with bail setting duties.

The survey is intended to assess judicial officers' perceptions and attitudes through a structured survey to measure judicial perceptions and attitudes about specific elements of Agency performance. Given the qualitative nature of these data, PSA will use a customer satisfaction rank order response of customer satisfaction questionnaire format for its survey. These customer satisfaction questionnaires are a proven method to solicit and record critical input from primary customers and partner agencies for PSA to address customer-related issues more competently and resolve issues more quickly.

The outcome will best provide a detailed analysis of customer feedback and may also provide “customer intelligence” that can be used as a roadmap to spur innovation efforts, research and development and new programs and initiatives. The outcome will also include a recommendation for strategic planning for future efforts which will engage and develop information and programming for DC judicial official audience. Survey results will not be published independently, but will be part of PSA's Performance Budget submitted to the United States Congress every February and used as a metric for performance appraisals for Senior Executive Staff, submitted in September of each year.

Method of Collection

This survey will be conducted by PSA through its Office of Strategic Development. To achieve the goals that PSA hopes to obtain through its judicial survey, the following data collections will be implemented:

(1) On-line instrument: All responses to the survey will be solicited, collected and recorded via a web-based survey instrument. This method will increase participants' ease in completing the survey and returning results to PSA. Automatically-logged results also ensure greater quality control of entered data and easier recording and analysis of results.

(2) Rank-ordered responses: Most survey questions ask respondents to rank-order responses on a standard five-item Likert-scale, for example, “Very Dissatisfied” to “Very Satisfied.” The remaining questions are value neutral and open ended and allow respondents to give opinions on how PSA can improve specific functions.

(3) Limited question set: The survey consists of 15 questions, making it relatively easy to understand, navigate and complete.

(4) Anonymity: Survey results are anonymous, although respondents have the choice to identify themselves.

Since the survey targets all judicial officers that have direct exposure and knowledge of PSA services and supervision, there are no anticipated issues with sample selection, stratification or estimation procedures.

Estimated Annual Respondent Burden

Exhibit 1 shows the estimated annualized burden hours for the respondents' time to participate in this research. The judicial surveys will be conducted with 60 judicial officers and will take approximately 10-15 minutes to complete. The total burden is estimated to be 15 hours. Exhibit 2 shows the estimated annualized cost burden associated with the respondents' time to participate in this research. The total cost burden is estimated to be $1,200 annually. Exhibit 3 shows the total and annualized cost to the federal government for conducting this research. The total cost to the federal government is $150.00. The total annualized cost is estimated to be approximately $150.00. The total annual cost includes the questionnaire development, administration, analysis, and study management.

Exhibit 1—Estimated Annualized Burden Hours
Survey form | Number of respondents | Number of responses per respondent | Minutes per response | Total burden hours
DC Superior Court Judicial Survey | 40 | 15 | 10-15 | 10
DC District Court Judicial Survey | 20 | 15 | 10-15 | 5

Exhibit 2—Estimated Annualized Cost Burden
Form name | Number of respondents | Total burden | Average cost per survey | Total cost burden
DC Superior Court Judicial Survey | 40 | 10 | $20.00 | $800.00
DC District Court Survey | 20 | 5 | 20.00 | 400.00
Total | 60 | 15 | 20.00 | 1,200.00

Exhibit 3—Estimated Total and Annualized Cost
Cost component | Total cost | Annualized cost
Project Development. | N/A | N/A
Data Collection Activities. | $150.00 | $150.00
Project Management. | N/A | N/A
Overhead | N/A | N/A
Total | 150.00 | 150.00

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Dated: April 18, 2013.
Rorey Smith,
Deputy General Counsel, Court Services and Offender Supervision Agency.

[FR Doc. 2013-09506 Filed 4-22-13; 8:45 am]

BILLING CODE 3129-04-P